DEPARTMENT OF THE INTERIOR

Bureau of Land Management

[NV-930-4210-05; N-75747]

Notice of Realty Action: Lease/conveyance for Recreation and Public Purposes

AGENCY: Bureau of Land Management, Interior.

ACTION: Recreation and Public Purpose Lease/conveyance correction.

SUMMARY: On October 27, 2003, a Notice of Realty Action was published in Federal Register Volume 68, No. 207, page 61231 for BLM serial number N-75747. The legal description for this notice inadvertently listed the Range as R.60E. It should have been listed as R.59E. Therefore, the correct legal description is as follows:

Mount Diablo Meridian

T. 20S., R. 59E.,

Sec. 12

W½NW¼NW¼NW¼, SW¼NW¼NW¼, W½SE¼NW¼NW¼, W½NW¼SW¼NW¼.

Containing 25 acres, more or less.

All of the other information in the NORA was correct.

Dated: November 19, 2003.
Sharon DiPinta,
Acting Assistant Field Manager, Division of Lands, Las Vegas, NV.

[FR Doc. 03-30037 Filed 12-2-03; 8:45 am]

BILLING CODE 4310-HC-P